DEPARTMENT OF THE TREASURY

Office of Thrift Supervision

Submission for OMB Review; Comment Request—Charter Conversions

AGENCY: Office of Thrift Supervision (OTS), Treasury.

ACTION: Notice and request for comment.

SUMMARY: The proposed information collection requirement described below has been submitted to the Office of Management and Budget (OMB) for review and approval, as required by the Paperwork Reduction Act of 1995. OTS is soliciting public comments on the proposal.

DATES: Submit written comments on or before March 19, 2007.

ADDRESSES: Send comments, referring to the collection by title of the proposal or by OMB approval number, to OMB and OTS at these addresses: Office of Information and Regulatory Affairs, Attention: Desk Officer for OTS, U.S. Office of Management and Budget, 725-17th Street, NW., Room 10235, Washington, DC 20503, or by fax to (202) 395-6974; and Information Collection Comments, Chief Counsel's Office, Office of Thrift Supervision, 1700 G Street, NW., Washington, DC 20552, by fax to (202) 906-6518, or by e-mail to infocollection.comments@ots.treas.gov. OTS will post comments and the related index on the OTS Internet Site at http://www.ots.treas.gov. In addition, interested persons may inspect comments at the Public Reading Room, 1700 G Street, NW., by appointment. To make an appointment, call (202) 906-5922, send an e-mail to public.info@ots.treas.gov, or send a facsimile transmission to (202) 906-7755.

FOR FURTHER INFORMATION CONTACT: You may access a copy of Form 1582 with the proposed changes in redline on OTS's website at www.ots.treas.gov or you may request a copy from Donald W. Dwyer, Director, Applications, (202) 906-6414. To obtain a copy of the submission to OMB, please contact Marilyn K. Burton at marilyn.burton@ots.treas.gov, (202) 906-6467, or facsimile number (202) 906-6518, Litigation Division, Chief Counsel's Office, Office of Thrift Supervision, 1700 G Street, NW., Washington, DC 20552.

SUPPLEMENTARY INFORMATION: OTS may not conduct or sponsor an information collection, and respondents are not required to respond to an information collection, unless the information collection displays a currently valid OMB control number. As part of the approval process, we invite comments on the following information collection.

OMB Number: 1550-0007.

Form Number: OTS Form 1582.

Regulation requirement: 12 CFR 543.8, 543.9, and 552.2-6.

Description: Section 5 of the Home Owners' Loan Act and 12 CFR 543.8 and 552.2-6 require OTS to act on requests by depository institutions proposing to convert to Federal savings association charters. With this renewal, OTS is making technical, nonsubstantive changes to Form 1582. The current Form 1582 only addresses applications for conversion from a state-chartered stock or mutual association to a federal stock or mutual association. The revisions made to Form 1582 allow it to be used in applications for approval of conversions of depository institutions to federal savings associations.

Type of Review: Renewal.

Affected Public: Depository institutions as defined in 12 CFR 552.13.

Estimated Number of Respondents: 18.

Estimated Frequency of Response: Event-generated.

Estimated Burden Hours per Response: 4 hours.

Estimated Total Burden: 72 hours.

Clearance Officer: Marilyn K. Burton, (202) 906-6467, Office of Thrift Supervision, 1700 G Street, NW., Washington, DC 20552.

OMB Reviewer: Desk Officer for OTS, Fax: (202) 395-6974, U.S. Office of Management and Budget, 725—17th Street, NW., Room 10235, Washington, DC 20503.

Dated: February 9, 2007.
Deborah Dakin,
Senior Deputy Chief Counsel, Regulations and Legislation Division.

[FR Doc. E7-2648 Filed 2-14-07; 8:45 am]

BILLING CODE 6720-01-P